DEPARTMENT OF TRANSPORTATION

National Highway Traffic Safety Administration

[Docket No. NHTSA-2015-0055]

Notice of Public Information Meeting and Comment Deadline in the Coordinated Remedy Program Proceeding for the Replacement of Certain Takata Air Bag Inflators

AGENCY: National Highway Traffic Safety Administration (NHTSA), DOT.

ACTION: Notice of public information meeting; notice of comment deadline.

SUMMARY: NHTSA will hold a public information meeting in the Coordinated Remedy Program Proceeding, including presentation of facts established through this proceeding and possible actions that could aid in prioritizing, organizing, and phasing the multiple recalls to remedy defective Takata air bag inflators pursuant to 49 U.S.C. 30120(c)(3) and other authority. This notice also sets the comment deadline for Docket No. NHTSA-2015-0055.

DATES: The public information meeting will be held beginning at 10:00 a.m. ET on October 22, 2015, at the U.S. Department of Transportation, 1200 New Jersey Avenue SE., Washington, DC 20590. If you wish to attend the public information meeting, you must register in advance no later than October 18, 2015 (and October 15, 2015 for non-U.S. citizens), by following the instructions in the PROCEDURAL MATTERS section of this notice. Space is limited. NHTSA will consider late registrants to the extent space allows, but cannot ensure that all registrants will be able to attend the public information meeting.

To ensure that NHTSA has an opportunity to consider all comments regarding a possible Coordinated Remedy Program, NHTSA must receive those written comments not later than October 28, 2015, submitted following the instructions provided in the ADDRESSES section of this notice.

ADDRESSES: You may submit comments to the docket number identified in the heading of this document by any of the following methods:

• Federal eRulemaking Portal: go to http://www.regulations.gov. Follow the online instructions for submitting comments.

• Mail: Docket Management Facility, M-30, U.S. Department of Transportation, West Building Ground Floor, Rm. W12-140, 1200 New Jersey Avenue SE., Washington, DC 20590.

• Hand Delivery or Courier: U.S. Department of Transportation, West Building Ground Floor, Rm. W12-140, 1200 New Jersey Avenue SE., Washington, DC 20590 between 9 a.m. and 5 p.m. ET, Monday through Friday, except Federal holidays.

• Fax: (202) 493-2251.

Regardless of how you submit your comments, you should mention the docket number of this document.

You may call the Docket at 202-366-9324.

Note that all comments received will be posted without change to http://www.regulations.gov, including any personal information provided.

FOR FURTHER INFORMATION CONTACT: For registration to attend the public information meeting: Carla Bridges, National Highway Traffic Safety Administration, 1200 New Jersey Avenue SE., Washington, DC 20590 (Telephone: 202-366-5263) (Fax: 202-366-3820). For meeting procedures: Arija Flowers, Office of the Chief Counsel, National Highway Traffic Safety Administration, 1200 New Jersey Avenue SE., Washington, DC 20590 (Telephone: 202-366-5263). Information regarding NHTSA's investigation into Takata Air Bag Inflator ruptures is available on NHTSA's Web site at: http://www.safercar.gov/rs/takata/index.html.

SUPPLEMENTARY INFORMATION: As set forth in the Federal Register notice of June 5, 2015 (80 FR 32197), NHTSA has opened a Coordinated Remedy Program Proceeding to consider whether and, if so, how to exercise its authority under the National Traffic and Motor Vehicle Safety Act of 1966, as amended and recodified (the “Safety Act”), 49 U.S.C. 30101, et seq., to mitigate and control the risk of serious injury or death due to an air bag inflator rupture, and to ensure that all affected vehicles in the United States are equipped with safe air bags as quickly as possible, by providing national-level leadership in facilitating the prioritization, organization, and phasing of the remedy programs of TK Holdings, Inc. (“Takata”) and all vehicle manufacturers with the affected air bag inflators. Currently, this includes the remedy programs of BMW of North America, LLC (“BMW”), FCA US, LLC (“Chrysler”), Daimler Trucks North America (“DTNA”), Daimler Vans USA, LLC (“Daimler Vans”), Ford Motor Company (“Ford”), General Motors, LLC (“GM”), American Honda Motor Company (“Honda”), Mazda North American Operations (“Mazda”), Mitsubishi Motors North America, Inc. (“Mitsubishi”), Nissan North America, Inc. (“Nissan”), Subaru of America, Inc. (“Subaru”), and Toyota Motor Engineering and Manufacturing (“Toyota”).¹

¹ In the Federal Register notice published June 5, 2015 (80 FR 32197), that opened the Coordinated Remedy Program Proceeding, Mercedes-Benz, LLC-DBA Sprinter (“M-B Sprinter”) (as to Sprinter Vans only) was listed as an affected vehicle manufacturer. However, the affected M-B Sprinter vehicles are being recalled by Daimler Vans. Similarly, based on relationships of companies and products, DTNA is working with Chrysler to carry out the recalls of the DTNA trucks.

Based on information obtained through the Coordinated Remedy Program Proceeding, NHTSA may issue one or more administrative orders that would coordinate remedy programs associated with defective Takata air bag inflators. 49 U.S.C. 30120(c)(3); 49 CFR 573.14. Coordination of the remedy programs may include “acceleration,” prioritization, organization, and/or phasing of some or all such air bag inflator remedy programs to ensure that defective vehicles and equipment are recalled and remedied. 49 U.S.C. 30118-30120; 49 CFR 573, 577. It may further include, among other things, coordination as to air bag inflator sourcing, production, allocation, delivery, installation, and adequacy of the remedy. 49 U.S.C. 30120(c)(3); 49 CFR 573.14.

NHTSA has decided to hold a public information meeting on facts established through the Coordinated Remedy Program Proceeding, analyses being conducted by industry and NHTSA, separately and cooperatively, and possible actions that could aid in prioritizing, organizing, and phasing the multiple recalls to remedy defective Takata air bag inflators pursuant to 49 U.S.C. 30120(c)(3) and other authority. This may include, among other things, information on supply challenges of multiple manufacturers implementing recalls of the same or substantially similar parts simultaneously; risk factors that support prioritizing certain vehicles for remedy; efforts at maximizing recall completion rates to achieve NHTSA's goal of one-hundred percent remedy rates both in high-priority vehicles and nation-wide; and addressing specific questions and concerns consumers may have about how such a coordinated remedy program would work. NHTSA anticipates that information will be provided in presentations by NHTSA personnel and vehicle manufacturers, and that inflator suppliers and organizations conducting inflator testing may also present information relevant to the investigation into the defective Takata air bag inflators and to the Coordinated Remedy Program Proceeding.

NHTSA has determined that given the importance of the subject matter and of public education on this significant defect and recall, it is appropriate to hold a public information meeting to provide updated information relevant to NHTSA's decision-making process in the Coordinated Remedy Program Proceeding.

Any interested person may provide written comments regarding a possible Coordinated Remedy Program, including questions or factors the individual believes NHTSA should consider in deciding whether, and if so how, NHTSA should exercise its authority under the Safety Act. Comments must be submitted by October 28, 2015, following the directions in the ADDRESSES section of this notice.

Procedural Matters: Persons wishing to attend the public information meeting must register by contacting Carla Bridges, National Highway Traffic Safety Administration, 1200 New Jersey Avenue SE., Washington, DC 20590, (Telephone: 202-366-5263) (Fax: 202-366-3820), before the close of business on October 18, 2015 (and October 15, 2015 for non-U.S. citizens). Each person wishing to attend must provide his or her name and country of citizenship. Non-U.S. citizens must also provide date of birth, title or position, and passport or diplomatic ID number, along with expiration date.

For security purposes, photo identification is required to enter the U.S. Department of Transportation building. To allow sufficient time to clear security and enter the building, NHTSA recommends that meeting participants arrive 30 to 60 minutes prior to the start of the public information meeting.

The meeting will be held at a site accessible to individuals with disabilities. Individuals who require accommodations, such as sign language interpreters, should contact Ms. Arija Flowers using the contact information in the FOR FURTHER INFORMATION CONTACT section above no later than October 14, 2015. A transcript of the proceedings will be placed in the docket for this notice at a later date.

Persons who wish to file written comments should submit them so that they are received by NHTSA no later than October 28, 2015, following the submission instructions provided in the ADDRESSES section of this notice.

Authority: 49 U.S.C. 30101, et seq., 30118-30120, 30120(c)(3); 49 CFR 573, 577; delegations of authority at 49 CFR 1.95(a), 501.2(a)(1).

Issued: September 3, 2015.
Mark R. Rosekind,
Administrator.

[FR Doc. 2015-22712 Filed 9-10-15; 8:45 am]

BILLING CODE 4910-59-P